DEPARTMENT OF THE INTERIOR

Bureau of Land Management

[CO-120-1610-DO-022C]

Notice of Intent to Prepare a Resource Management Plans for the Kremmling and Glenwood Springs Field Office and Associated Environmental Impact Statement, Colorado

AGENCY: Bureau of Land Management, Interior.

ACTION: Notice of intent.

SUMMARY: The Bureau of Land Management (BLM) Kremmling and Glenwood Springs Field Office, Colorado intends to prepare Resource Management Plans (RMP) with an associated Environmental Impact Statement (EIS) for the Kremmling and Glenwood Springs planning areas and by this notice is announcing public scoping meetings. The Field Offices will simultaneously revise their respective RMPs for the BLM-administered public lands within each Field Office under one EIS. The RMPs will replace the existing Kremmling and Glenwood Springs RMPs.

DATES: This notice initiates the public scoping process. Comments and resource information should be submitted to the BLM within 60 days of publication of this notice in the Federal Register. The BLM will announce public scoping meetings to identify relevant issues through local news media, newsletters, and the BLM Web site (http://www.blm.gov/rmp/co/kfo-gsfo) at least 15 days prior to the first meeting.

ADDRESSES: You may submit written comments by any of the following methods:

• Web site: (http://www.blm.gov/rmp/co/kfo-gsfo).

• E-mail: cormpkg@blm.gov.

• Fax: (970) 724-9590.

• Bureau of Land Management, Kremmling Field Office, Joe Stout, RMP Project Manager, P.O. Box 68, Kremmling, CO 80459.

Documents pertinent to this proposal may be examined at the Kremmling and Glenwood Springs Field Offices. Respondents' comments, including their names and street addresses, will be available for public review at the Kremmling Field Office during regular business hours from 8 a.m. to 4:30 p.m., and at the Glenwood Springs Field Office during regular business hours from 7:45 a.m. to 4:30 p.m., Monday through Friday, except holidays, and may be published as part of the EIS. Individual respondents may request confidentiality. If you wish to withhold your name or street address from public review or from disclosure under the Freedom of Information Act, you must state this prominently at the beginning of your written comments. Such requests will be honored to the extent allowed by law. All submissions from organizations and businesses, and from individuals identifying themselves as representatives or officials of organizations or businesses, will be available for public inspection in their entirety.

FOR FURTHER INFORMATION CONTACT: For further information and/or to have your name added to our mailing list, contact Joe Stout, Kremmling Field Office, at (970) 724-3003. Comments may be sent electronically to cormpkg@blm.gov.

SUPPLEMENTARY INFORMATION: The Kremmling planning area is located in Grand, Eagle, Jackson, Larimer, and Summit Counties, Colorado. The Glenwood Springs planning area is located in Eagle, Garfield, Mesa, Pitkin, Rio Blanco, and Routt Counties, Colorado. This planning activity encompasses approximately 964,000 acres of BLM-administered public lands. The plan will fulfill the needs and obligations set forth by the National Environmental Policy Act, the Federal Land Policy and Management Act, and BLM management policies. The BLM will work collaboratively with interested parties to identify the management decisions that are best suited to local, regional, and national needs and concerns.

The purpose of the public scoping process is to determine relevant issues that will influence the scope of the environmental analysis and alternatives. These issues also guide the planning process. You may submit comments on issues and planning criteria in writing to the BLM at any public scoping meeting, or you may submit them to the BLM using one of the methods listed in the ADDRESSES section above. Individual respondents may request confidentiality. If you wish to withhold your name or street address from public review or from disclosure under the Freedom of Information Act, you must state this prominently at the beginning of your written comments. Such requests will be honored to the extent allowed by law. All submissions from organizations and businesses, and from individuals identifying themselves as representatives or officials of organizations or businesses, will be available for public inspection in their entirety.

Preliminary issues and management concerns have been identified by BLM personnel, other agencies, and in meetings with individuals and user groups. They represent the BLM's knowledge to date regarding the existing issues and concerns with current land management. The EIS will describe and analyze a range of alternatives, comprised of the No Action alternative (continued management) and a number of action alternatives, each of which will describe options for addressing the major issues. The major issues that will be addressed in this planning effort include:

• Oil and gas development;

• Range health/upland management;

• Water/riparian issues;

• Increased recreation demands and uses;

• Comprehensive travel management and transportation;

• High concentration of cultural sites;

• Maintaining habitat for Sage Grouse and Sagebrush obligate species; and

• Rapidly expanding urban interface areas.

Issues identified through public comments will be placed into one of four categories:

1. Issues to be resolved in the plan;

2. Issues to be resolved through policy or administrative action;

3. Issues beyond the scope of the plan; or

4. Issues that have already been addressed but should be better communicated to the issue holder.

Rationale will be provided for each issue placed in categories two, three, and four. The public is encouraged to help identify these questions and concerns during the scoping phase.

An interdisciplinary approach will be used to develop the plan in order to consider the variety of resource issues and concerns identified. Disciplines involved in the planning process will include specialists with expertise in minerals and geology, forestry, range, fire and fuels, outdoor recreation, archaeology, paleontology, wildlife, fisheries, lands and realty, hydrology, soils, sociology, environmental justice and economics.

The following planning criteria have been proposed to guide development of the plan, avoid unnecessary data collection and analyses, and to ensure the plan is tailored to the issues. Other criteria may be identified during the public scoping process. After gathering comments on planning criteria, the BLM will finalize the criteria and provide feedback to the public on the criteria to be used throughout the planning process. Some of the planning criteria that are under consideration include:

• The plans will be completed in compliance with the Federal Land Policy and Management Act (43 U.S.C. 1701 et seq.) and the National Environmental Policy Act.

• The plan will recognize valid existing rights.

• Public participation will be encouraged throughout the process. The BLM will collaborate and build relationships with tribes, state and local governments, federal agencies, local stakeholders and others in the community of interest of the plan as normal business.

Editorial Note: This document was received at the Office of the Federal Register on February 26, 2007.

Dated: November 8, 2006.
Peter McFadden,
Acting Kremmling Field Manager.
Dated: November 9, 2006.
Jamie Connell,
Glenwood Springs Field Manager.

[FR Doc. E7-3627 Filed 3-1-07; 8:45 am]

BILLING CODE 1610-DO-P